DEPARTMENT OF ENERGY

Federal Energy Regulatory Commission

Combined Notice of Filings #1

Take notice that the Commission received the following exempt wholesale generator filings:

Docket Numbers: EG20-224-000.

Applicants: Nobles 2 Power Partners, LLC.

Description: Notice of Self-Certification of Exempt Wholesale Generator Status of Nobles 2 Power Partners, LLC.

Filed Date: 8/3/20.

Accession Number: 20200803-5208.

Comments Due: 5 p.m. ET 8/24/20.

Take notice that the Commission received the following electric rate filings:

Docket Numbers: ER10-2645-003.

Applicants: Baconton Power LLC.

Description: Notice of Non-Material Change in Status of Baconton Power LLC.

Filed Date: 8/3/20.

Accession Number: 20200803-5259.

Comments Due: 5 p.m. ET 8/24/20.

Docket Numbers: ER10-3115-006.

Applicants: Waterside Power, LLC.

Description: Second Supplement to April 20, 2020 Triennial Market Power Update for the Northeast Region of Waterside Power, LLC.

Filed Date: 8/4/20.

Accession Number: 20200804-5197.

Comments Due: 5 p.m. ET 8/25/20.

Docket Numbers: ER10-3117-008.

Applicants: Lea Power Partners, LLC.

Description: Second Supplement to April 20, 2020 Triennial Market Power Update for the Southwest Power Pool Region of Lea Power Partners, LLC.

Filed Date: 8/4/20.

Accession Number: 20200804-5199.

Comments Due: 5 p.m. ET 8/25/20.

Docket Numbers: ER15-705-006.

Applicants: Pacific Gas and Electric Company.

Description: Compliance filing: Compliance filing CCSF IA and TFAs Following Order on Rehearing (TO SA 284) to be effective 7/23/2015.

Filed Date: 8/4/20.

Accession Number: 20200804-5045.

Comments Due: 5 p.m. ET 8/25/20.

Docket Numbers: ER15-705-007.

Applicants: Pacific Gas and Electric Company.

Description: Compliance filing: Compliance filing CCSF IA and TFAs Following Order on Rehearing (TO SA 284) to be effective 7/1/2015.

Filed Date: 8/4/20.

Accession Number: 20200804-5047.

Comments Due: 5 p.m. ET 8/25/20.

Docket Numbers: ER20-2517-000.

Applicants: Northern Colorado Interconnect, LLC.

Description: Supplement to July 28, 2020 Northern Colorado Interconnect, LLC tariff filing and Request for Waiver of the 60-day Advance Notice Requirement.

Filed Date: 8/4/20.

Accession Number: 20200804-5225.

Comments Due: 5 p.m. ET 8/18/20.

Docket Numbers: ER20-2603-000.

Applicants: Skeleton Creek Wind, LLC.

Description: Baseline eTariff Filing: Skeleton Creek Wind, LLC Application for MBR Authority to be effective 10/3/2020.

Filed Date: 8/3/20.

Accession Number: 20200803-5192.

Comments Due: 5 p.m. ET 8/24/20.

Docket Numbers: ER20-2604-000.

Applicants: California Independent System Operator Corporation.

Description: Petition for Approval of Disposition of Penalty Assessment Proceeds and non-Refundable Interconnection Financial Security of the California Independent System Operator Corporation.

Filed Date: 8/3/20.

Accession Number: 20200803-5263.

Comments Due: 5 p.m. ET 8/24/20.

Docket Numbers: ER20-2605-000.

Applicants: Southwest Power Pool, Inc.

Description: § 205(d) Rate Filing: 3590R2 King Plains Wind Project GIA to be effective 7/30/2020.

Filed Date: 8/4/20.

Accession Number: 20200804-5178.

Comments Due: 5 p.m. ET 8/25/20.

Docket Numbers: ER20-2606-000.

Applicants: Duke Energy Florida, LLC.

Description: § 205(d) Rate Filing: DEF-Duette Solar E&P Agreement RS No. 298 to be effective 8/5/2020.

Filed Date: 8/4/20.

Accession Number: 20200804-5221.

Comments Due: 5 p.m. ET 8/25/20.

Take notice that the Commission received the following qualifying facility filings:

Docket Numbers: QF20-1229-000.

Applicants: YCI Methanol One, LLC.

Description: Form 556 of YCI Methanol One, LLC.

Filed Date: 8/3/20.

Accession Number: 20200803-5275.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2020.
Nathaniel J. Davis, Sr.,
Deputy Secretary.

[FR Doc. 2020-17384 Filed 8-7-20; 8:45 am]

BILLING CODE 6717-01-P